DEPARTMENT OF COMMERCE

National Oceanic and Atmospheric Administration

RIN 0648-XD468

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The SSC meeting will be held on Wednesday and Thursday September 17-18, 2014. The meeting will begin at 1 p.m. on September 17 and conclude by 12 p.m. on September 18.

ADDRESSES: The meetings will be held at Admiral Fell Inn, 888 Broadway, Baltimore, MD 21231; telephone: (410) 522-7377.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items to be discussed at the SSC meeting include: Review fishery performance report and multi-year ABC specifications for spiny dogfish; open discussion with NEFSC leadership on MAFMC risk policy, stock assessment Tier assignments, and addressing MAFMC research needs; review white paper on forage fish management; update on five-year research plan development; discuss Wave 1 MRFSS data relative to current black sea bass ABC specification; and topics for Fifth National SSC Workshop to be held in 2015.

Although non-emergency issues not contained in this agenda may come before the group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aid should be directed to M. Jan Saunders (302) 526-5251 at least 5 days prior to the meeting date.

Dated: August 27, 2014.
Tracey L. Thompson,
Acting Deputy Director, Office of Sustainable Fisheries, National Marine Fisheries Service.

[FR Doc. 2014-20750 Filed 8-29-14; 8:45 am]

BILLING CODE 3510-22-P